DEPARTMENT OF TRANSPORTATION

National Highway Traffic Safety Administration

[Docket No. NHTSA-2013-0065; Notice 1]

PACCAR Incorporated, Receipt of Petition for Decision of Inconsequential Noncompliance

AGENCY: National Highway Traffic Safety Administration, DOT.

ACTION: Receipt of Petition.

SUMMARY: PACCAR Inc. (PACCAR) has determined that certain model year (MY) 2013 Kenworth and Peterbilt trucks, do not fully comply with paragraph S3.1.3 of Federal Motor Vehicle Safety Standard (FMVSS) No. 102, Transmission Shift Position Sequence, Starter Interlock, and Transmission Braking Effect. PACCAR has filed an appropriate revised report dated March 1, 2013, pursuant to 49 CFR Part 573, Defect and Noncompliance Responsibility and Reports.

DATES: October 28, 2013.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand delivery: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. PACCAR's Petition: Pursuant to 49 U.S.C. 30118(d) and 30120(h) (see implementing rule at 49 CFR Part 556), PACCAR submitted a petition for an exemption from the notification and remedy requirements of 49 U.S.C. Chapter 301 on the basis that this noncompliance is inconsequential to motor vehicle safety.

This notice of receipt of PACCAR's petition is published under 49 U.S.C. 30118 and 30120 and does not represent any agency decision or other exercise of judgment concerning the merits of the petition.

II. Vehicles Involved: Affected are approximately 452 Kenworth MY 2013 model K270 and model K370 trucks that were manufactured between March 29, 2012 and November 2, 2012, and MY 2013 Peterbilt model 210 and model 220 vehicles that were manufactured between March 21, 2012 and November 6, 2012.

III. Noncompliance: PACCAR explains that the noncompliance is that the starter interlock in the affected automatic transmission trucks does not conform to paragraph S3.1.3 of FMVSS No. 102 because the starter interlock is based on a system that differs from the system specified in the standard. Although the starter interlock on these trucks prevents the transmission from propelling the vehicle and, therefore, is effective in preventing truck “roll away,” the engineering of the starter interlock is not consistent with the specification prescribed in paragraph S3.1.3 of FMVSS No. 102.

The trucks in the affected population are designed so that the engine will start with the gear selector in any position, but the transmission will remain in neutral until the service brake is applied and the transmission is shifted from neutral into a gear. Because an operator can start the engine with the gear selector in any position, the starter interlock on these vehicles does not conform to the applicable requirement.

IV. Rule Text: Paragraph S3.1.3 of FMVSS No. 102 specifically states:

S3.1.3 Starter interlock. Except as provided in S3.1.3.1 through S3.1.3.3, the engine starter shall be inoperative when the transmission shift position is in a forward or reverse drive position.

V. Summary of PACCAR's Analyses: PACCAR stated its belief that the subject noncompliance is inconsequential to motor vehicle safety for the following reasons:

S3.1.3 of FMVSS No. 102 provides, in pertinent part: “. . . the engine starter shall be inoperative when the transmission shift position is in a forward or reverse drive position.” Assuming that the term “transmission shift position” refers to the position of the gear selector (as opposed to the position of the transmission itself), the subject trucks do not comply with this provision as written. That is because the starter interlock system in these vehicles, which is an electronic system that is used in PACCAR's European trucks, differs from the system specified in S3.1.3. PACCAR's starter interlock system effectively achieves the objectives of S3.1.3 by precluding the possibility of a powered rollaway or lurching when the vehicle is started. However, the manner in which the system functions is not consistent with the design that is prescribed in the standard.

The engine in the subject trucks can be started with the gear selector in any position, thus creating what appears to be a technical noncompliance with S3.1.3. However, even if the engine is started when the gear selector indicates a forward or reverse gear, the transmission itself will remain in neutral, and the message “Gearshift Inhibited” will be prominently displayed to the driver, as shown in the photograph below. The transmission can be shifted into a forward or reverse gear only after the gear selector is first moved into the neutral position and then moved back into gear while the service brake is applied. At that point, the “Gearshift Inhibited” message will be replaced by a “Transmission Warning” message, which will remain illuminated until the engine is turned off and then restarted.

As NHTSA explained in a 2005 Final Rule that amended FMVSS No. 102 to allow idle stop technology, “The purpose of [S3.1.3] is to prevent injuries and death from the unexpected motion of a vehicle when the driver starts the vehicle with the transmission inadvertently in a forward or reverse gear.” 70 FR 38040 (July 1, 2005). The agency also referred to “S3.1.3s underlying purpose of ensuring that the vehicle will not lurch forward or backward during driver activation of the engine starter. . ..” ld. at 38041. As described above, the starter interlock system in the subject vehicles completely prevents any possibility of “unexpected motion” or vehicle “lurching” because the transmission remains neutralized, even if the engine is started with the gear selector indicating a forward or reverse gear. Thus, the PACCAR system, which has been used successfully for more than three years in PACCAR's European vehicles, fully satisfies the purposes of S3.1.3 and achieves the same level of safety as that provision. Moreover, PACCAR is unaware of any consumer complaints, accidents, or injuries related to this design.

PACCAR has additionally informed NHTSA that it has corrected the noncompliance so that all future production vehicles will comply with FMVSS No. 102.

In summation, PACCAR believes that the described noncompliance of the subject vehicles is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject trucks that PACCAR no longer controlled at the time it determined that the noncompliance existed. Therefore, these provisions only apply to the 452 trucks that PACCAR no longer controlled at the time it determined that the noncompliance existed. However, any decision on this petition does not relieve vehicle distributors and dealers of the prohibitions on the sale, offer for sale, or introduction for delivery or introduction into interstate commerce of the noncompliant vehicles under their control after PACCAR notified them that the subject noncompliance existed.

Authority: (49 U.S.C. 30118, 30120: delegations of authority at 49 CFR 1.95 and 501.8)

Claude H. Harris,
Director, Office of Vehicle Safety Compliance.

[FR Doc. 2013-23366 Filed 9-25-13; 8:45 am]

BILLING CODE 4910-59-P